DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Community-based Restoration Program Progress Reports.

Form Number(s): None.

OMB Approval Number: 0648-0472.

Type of Request: Regular submission.

Burden Hours: 8,240.

Number of Respondents: 200.

Average Hours Per Response: Interim reports, 9 hours and 45 minutes; final reports, 11 hours and 45 minutes.

Needs and Uses: This collection is needed to assist with the administration and evaluation of the NOAA Community-based Restoration Program (CRP), which has provided financial assistance on a competitive basis to over 1,200 habitat restoration projects since 1996. The information is used to provide accountability for the CRP and NOAA on the expenditure of federal funds used for restoration, contributes to the Government Performance and Results Act (GPRA) “acres restored” measure and to the President's Wetlands Initiative goal of 3 million acres of wetland restoration, enhancement and protection by 2010. The information is required only from parties receiving CRP funds.

Affected Public: Not-for-profit institutions; business or other for-profit organiaations; State, Local or Tribal Government.

Frequency: Semi-annually and one-time only.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 30, 2006.
Gwellnar Banks,
Management Analyst, Office of the Chief Information Officer.

[FR Doc. E6-4894 Filed 4-4-06; 8:45 am]

BILLING CODE 3510-22-P